DEPARTMENT OF THE INTERIOR

National Park Service

Record of Decision, General Management Plan, Final Environmental Impact Statement, Tonto National Monument, Arizona

AGENCY: National Park Service, Interior.

ACTION: Notice of availability of a Record of Decision on the Final Environmental Impact Statement for the General Management Plan, Tonto National Monument.

SUMMARY: Pursuant to section 102(2)(C) of the National Environmental Policy Act of 1969, Public Law 91-190, 83 Stat. 852, 853, codified as amended at 42 U.S.C. 4332(2)(C), the National Park Service announces the availability of the Record of Decision for the General Management Plan, Tonto National Monument, Arizona. On July 28, 2003, the Acting Director, Intermountain Region approved the Record of Decision for the project. As soon as practicable, the National Park Service will begin to implement the Preferred Alternative contained in the FEIS issued on March 14, 2003. The following course of action will occur under the preferred alternative:

The selected alternative integrates a combination of actions that will preserve cultural and natural resources and provide opportunities for high quality visitor experiences based on resource values. This alternative provides the balance and flexibility necessary to accomplish both of these objectives in a realistic manner. A new administrative facility constructed inside the monument will improve staff needs. The existing visitor center will be remodeled to increase visitor orientation and education opportunities. A 10-to 50-vehicle transportation staging area will be built and an alternative transportation system to access park resources will be developed and implemented to transport visitors from the new staging area near the entrance station to the visitor center during the busiest times of the year. A seasonal employee/volunteer residence will be constructed increasing the park's ability to obtain needed help for resource stewardship and visitor services. The management of cultural and natural resources will improve with more staff and the information needed to conduct preservation programs.

This course of action plus three other alternatives were analyzed in the Draft and Final Environmental Impact Statements. The full range of foreseeable environmental consequences was assessed, and appropriate mitigating measures were identified.

The Record of Decision includes a statement of the decision made, synopses of other alternatives considered, the basis for the decision, a description of the environmentally preferable alternative, a finding on impairment of park resources and values, a listing of measures to minimize environmental harm, and an overview of public involvement in the decision-making process.

FOR FURTHER INFORMATION CONTACT: Shirley Hoh, HC02 Box 4602, Roosevelt, Arizona 85545, (928) 467-2241, TONTSuperintendent@nps.gov.

SUPPLEMENTARY INFORMATION: Copies of the Record of Decision may be obtained from the contact listed above or online at www.nps.gov/tont/index.html.

Dated: July 26, 2003.
Michael D. Snyder,
Acting Director, Intermountain Region, National Park Service.

[FR Doc. 03-21969 Filed 8-27-03; 8:45 am]

BILLING CODE 4312-DN-P